FEDERAL COMMUNICATIONS COMMISSION

47 CFR Part 10

[PS Docket Nos. 15-91, 15-94; FCC 18-4]

Wireless Emergency Alerts; Emergency Alert System

AGENCY: Federal Communications Commission.

ACTION: Final rule.

SUMMARY: This document adopts revisions to Wireless Emergency Alert (WEA) rules to improve utility of WEA as a life-saving tool. By this action, the Commission adopts rules that will improve the accuracy with which Participating CMS Providers transmit Alert Messages to the specified target area. This document also adopts rules to preserve Alert Messages on mobile devices, inform consumers about WEA capabilities at the point of sale, define participation in WEA, and extend the compliance deadline for Spanish language alerting. Through this action, the Commission hopes to empower state and local alert originators to utilize WEA during emergencies.

DATES: Effective dates: The amendments to §§ 10.10 and 10.210 are effective April 30, 2018. The amendments to §§ 10.450 and 10.500 are effective November 30, 2019. The amendment to § 10.240 contains new or modified information collection requirements and will not be effective until those information collection requirements are approved by the Office of Management and Budget. The Federal Communications Commission will publish a document in the Federal Register announcing the effective date for the section.

Compliance dates: Participating CMS Providers must comply with the new point of sale disclosure rules by November 30, 2019, or as specified by publication in the Federal Register of a document announcing approval by the Office of Management and Budget (OMB) and the relevant effective date, whichever is later. CMS Providers are required to update their WEA election status within June 28, 2018 of a document announcing approval by the Office of Management and Budget of the modified information collection requirements.

Applicability date: The requirement to support Spanish language Alert Messages in § 10.480 is applicable beginning May 1, 2019.

FOR FURTHER INFORMATION CONTACT: James Wiley, Attorney Advisor, Cybersecurity and Communications Reliability Division, Public Safety and Homeland Security Bureau, at 202-418-1678, or by email at James.Wiley@fcc.gov. For additional information concerning the information collection requirements contained in this document, send an email to PRA@fcc.gov or contact Nicole Ongele, Office of Managing Director, Performance Evaluation and Records Management, 202-418-2991, or by email to PRA@fcc.gov.

SUPPLEMENTARY INFORMATION: This is a summary of the Commission's Second Report and Order and Second Order on Reconsideration (Second Report and Order) in PS Docket No. 15-91, No. 15-94, FCC 18-4, released on January 31, 2018. The full text of this document is available for inspection and copying during normal business hours in the FCC Reference Center (Room CY-1257), 445 12th Street SW, Washington, DC 20554, or online at: https://transition.fcc.gov/Daily_Releases/Daily_Business/2018/db0131/FCC-18-4A1.pdf. The rules in this part are issued pursuant to the authority contained in the Warning, Alert, and Response Network Act, Title VI of the Security and Accountability for Every Port Act of 2006, Public Law 109-347, Titles I through III of the Communications Act of 1934, as amended, and Executive Order 13407 of June 26, 2006, Public Alert and Warning System, 71 FR 36975 (2006).

Synopsis

1. In this Second Report and Order, the Federal Communication Commission takes measures to enhance the effectiveness of Wireless Emergency Alerts (WEA). In particular, the Commission improves the accuracy with which emergency managers can geographically target the delivery of WEA Alert Messages to areas within their jurisdiction. New rules will ensure that consumers will continue to be able to retrieve and review Alert Message content for 24 hours from receipt. The Order also defines what it means for a Commercial Mobile Service (CMS) Provider to participate in WEA “in whole” versus “in part.” In the Second Order on Reconsideration, the Commission aligns the deadline for supporting Alert Messages initiated in Spanish with the deadline for extending the length of WEA messages from 90 to 360 characters.

I. Background

2. The WEA system is a tool for authorized federal, state and local government entities to geographically target alerts and warnings to the WEA-capable mobile devices of Participating CMS Providers' subscribers. The Warning Alert and Response Network (WARN) Act gives the Federal Communications Commission (Commission) authority to adopt “relevant technical standards, protocols, procedures and other technical requirements” governing WEA. In September 2016, the Commission adopted the WEA Report and Order, 81 FR 75710 (Nov. 1, 2016), which included requirements to support Spanish language Alert Messages. It also adopted the WEA Further Notice of Proposed Rulemaking (WEA FNPRM), 81 FR 78539 (Nov. 8, 2016), seeking comment on measures to further improve emergency managers' ability to geographically target (geo-target) Alert Messages; to preserve Alert Messages on mobile devices for consumer review until they expire; and to define the extent of participation in WEA.

II. Discussion

3. Geo-targeting of Alert Messages. This Order requires Participating CMS Providers to deliver Alert Messages to an area that matches the target area specified by alert originators, as proposed in the WEA FNPRM. The record demonstrates a compelling public interest need for WEA Alert Messages to be delivered in a more geographically targeted manner. Emergency managers and others emphasize that more accurate geo-targeting will encourage alert originators to use WEA, enable them to use WEA to more effectively motivate consumers to take protective actions, and will reduce the potential for over-alerting and subscriber opt-out of receiving WEA Alert Messages. In addition to supporting the need for more stringent geo-targeting requirements, the majority of commenters indicate that it is technically feasible to match delivery of WEA Alert Messages to an area prescribed by the alert originator. The Order defines “matching” the target area as delivering an Alert Message to 100 percent of the target area with no more than 0.1 of a mile overshoot. The majority of emergency managers support this degree of geo-targeting accuracy as sufficient to meet their alerting needs. The Order does not specify the technological approach Participating CMS Providers should take to comply with this geo-targeting requirement.

4. The Order acknowledges that, in certain circumstances, a Participating CMS Provider may be technically incapable of matching the target area. These circumstances include when the target area is outside of the Participating CMS Provider's network coverage area, when mobile devices have location services disabled, and when legacy networks or devices cannot be updated to support this functionality. These circumstances do not include where a CMS Provider cannot match the target area using network-based solutions and declines to pursue other available technologies. Furthermore, the Commission expects network infrastructure constraints to more granular geo-targeting will be a time limited issue.

5. If some or all of a Participating CMS Provider's network infrastructure is technically incapable of matching the specified target area, Participating CMS Providers must deliver the Alert Message to an area that best approximates the target area on and only on those aspects of its network infrastructure that are incapable of matching the target area. Any Participating CMS Provider that is technically capable of matching the target area is required to do so. Inability to comply with this rule by November 30, 2019 does not constitute technical incapability. In addition, a Participating CMS Provider must match only the portion of the target area that falls within its network's coverage area. The Order clarifies that CMS Providers are no longer allowed to transmit an Alert Message to an area no larger than the propagation area of a single transmission site.

6. The requirement to match the target area applies only to new mobile devices offered for sale after November 30, 2019 and to existing devices capable of being upgraded to support this matching standard. For existing mobile devices that cannot be upgraded, Participating CMS Providers must deliver the Alert Message to their “best approximation” of the target area. These devices will still be considered “WEA-capable” as of November 30, 2019, as long as the CMS Provider delivers Alert Messages to these devices using its “best approximation” of the target area. WEA-capable mobile devices with location services turned off (or otherwise unavailable) at the time of the Alert Message receipt should display the Alert Message by default, provided they are within a Participating CMS Provider's best approximation of the target area.

7. In matching the target area, Participating CMS Providers may not limit emergency managers' ability to use the full 360 characters of alphanumeric text allocated for displayable WEA Alert Messages. The record indicates that it is technically feasible for Participating CMS Providers to transmit polygon coordinates to mobile devices without affecting the 360-character allotment for displayable Alert Message text, by using lossless compression techniques or limiting the number of vertices used to describe the target area. The Order specifies that Participating CMS Providers that choose to use device-based geo-fencing to match the target area are only required to transmit 76 vertices of up to four decimal places specifying the target area to a mobile device.

8. The Order requires Participating CMS Providers to comply with this requirement by November 30, 2019. The record indicates that enhanced geo-targeting can be implemented sooner than the 42 months proposed in the WEA FNPRM. In light of this record, and the urgent public safety benefits of enhanced geo-targeting, we find that the November 30, 2019 compliance deadline is feasible and in the public interest. The Commission expects the industry to move expeditiously to meet the November 30, 2019 compliance deadline. However, if the standards process is delayed or prolonged through no fault of a Participating CMS provider, the Commission may consider waiver of this requirement.

9. Consumer Disclosure Requirements. Section 10.240 of the Commission's rules requires that CMS Providers participating in WEA “in part” provide notice to consumers that WEA may not be available on all devices or within the entire service area, as well as details about the availability of WEA service. The Order further requires CMS Providers participating in WEA “in part” to disclose the extent to which enhanced geo-targeting is available on their network and devices at the point of sale, and the benefits of enhanced geo-targeting. These disclosures will allow consumers to make more informed choices about their ability to receive WEA Alert Messages that are relevant to them. The Commission suggests, but does not require, that Participating CMS Providers disclose to consumers at the point of sale that if they have not enabled location services on their devices, they may receive Alert Messages that are not relevant to them. Participating CMS Providers must comply with these enhanced disclosure rules by November 30, 2019, or as specified by publication in the Federal Register of a document announcing approval by the Office of Management and Budget (OMB) and the relevant effective date, whichever is later.

10. Preservation of Alert Messages. The Order adopts the WEA FNPRM's proposal to amend § 10.500 of the WEA rules to state that WEA-capable mobile devices must preserve Alert Messages in a consumer-accessible format and location for at least 24 hours after the Alert Message is received on the subscriber's mobile device, or until deleted by the subscriber. The record shows that allowing consumers to review Alert Messages after they have been dismissed can improve comprehension of potentially life-saving information. Commenters indicate that it is feasible to preserve Alert Messages, and that some WEA-capable mobile devices are already capable of preserving Alert Messages. For those mobile devices that do not currently preserve Alert Messages, the record shows this capability can be enabled through a software update.

11. The Order require Participating CMS Providers to comply with this requirement by November 30, 2019. The record shows that 22 months is sufficient time for Participating CMS Providers to implement the software update needed to enable this functionality—and making this requirement align with the precise geo-targeting requirement should ease administration and oversight. Because the Order does not mandate a uniform approach to the preservation of Alert Messages, compliance with this requirement does not implicate changes to the provision of WEA that would necessitate standards development. Accordingly, the Order concludes that it is both feasible and in the public interest to require this functionality on WEA-capable mobile devices by November 30, 2019.

12. Defining WEA Participation. As proposed in the WEA FNPRM, the Order amends § 10.10 of the Commission's rules to state that CMS Providers participate in WEA “in whole” when they agree to transmit WEA Alert Messages in a manner consistent with the technical standards, protocols, procedures, and other technical requirements implemented by the Commission in the entirety of their geographic service area, and when all mobile devices that they offer at the point of sale are WEA-capable. It further amends § 10.10 to state that CMS Providers participate in WEA “in part” when they agree to transmit WEA Alert Messages in a manner consistent with the technical standards, protocols, procedures, and other technical requirements implemented by the Commission in some, but not in all, of their geographic service areas, or not all mobile devices that they offer at the point of sale are WEA-capable. The Order clarifies that CMS Providers that participate in WEA “in part” need not offer WEA on all devices available at the point of sale. These definitions will provide greater clarity to consumers about the availability of WEA service on networks and devices.

13. These definitions will become effective 60 days from their publication in the Federal Register. Commenters agree that CMS Providers should be required to renew their elections, if necessary to remain accurate and consistent with these definitions. Accordingly, the Order allows CMS Providers 120 days from the date of publication in the Federal Register of a document announcing approval by the Office of Management and Budget of the modified information collection requirements to update their WEA election status. This renewal will ensure that Participating CMS Providers' election notices are consistent with the definitions of “in whole” and “in part” participation adopted in this Order, and will promote public awareness and understanding of CMS Provider participation.

14. Second Order on Reconsideration. The Second Order on Reconsideration grants CTIA's request that the Commission extend the compliance deadline for supporting Spanish-language Alert Messages from two years to 30 months from the rule's publication in the Federal Register, to be consistent with the deadline for the rule that CMS Providers support WEA messages of up to 360 characters in length. The Order concludes that aligning the Spanish-language alert implementation compliance timeframe with the 360-character length requirement timeframe will both ensure that Spanish-language alerts are as effective as possible and will reduce costs for Participating CMS Providers. Absent such relief, Participating CMS Providers would have to incur separate costs of testing for both Spanish-language and 360-character WEA messages. Accordingly, the Order finds that extending the compliance deadline for Spanish-language alerting is in the public interest. This requirement will become applicable beginning May 1, 2019.

15. Cost and Benefit Analysis. The Order shows that the benefits from the improvements to WEA adopted in the Order should exceed their cost. The Order estimates the cost burden on CMS Providers as $41 million. This cost results mainly from modifications to standards and software. The Order estimates that the public safety benefit of the rules adopted in this Order will be in excess of these costs. This assessment of costs is based on the quantitative framework described in the WEA FNPRM, which no commenter opposed. The WEA FNPRM sought comment on the costs and benefits of the proposed rules, but the Commission received a sparse record in response, including no dollar figure estimates.

16. Costs. The Order finds that the primary cost incurred by these rules will stem from the Order's enhanced geo-targeting requirement. In the WEA FNPRM, the Commission estimated that the rules could present a $41 million one-time cost to all Participating CMS Providers, which includes $1,140,000 for updating standards and specifications, $39,680,000 for new or modified software, $20,000 for recordkeeping costs, and a small incremental cost for consumer disclosure.

17. The cost of modifying an existing standard is less than the cost of creating a new standard. Assuming that enhanced geo-targeting will require the development of three new standards and the modification of 12 standards, the Order concludes that the maximum reasonable cost of standards modifications necessary to support enhanced geo-targeting will be $76,000 per standard times fifteen standards, or $1,140,000 as a one-time cost. After standards are set, Participating CMS Providers will need to develop and test new software to support enhanced geo-targeting and alert preservation. The WEA FNPRM anticipated that the software updates implicated by its proposals would cost, at most, $39,680,000 over 12 months. No commenters objected to this level of anticipated costs. The Order concludes that the cost of developing and testing new or modified software required to comply with the new rules would be no more than $39,680,000. Finally, the WEA FNPRM estimated that the total annual recordkeeping cost of the election requirement would be $18,074.53. The Commission received no objections to this estimate in the record. The Order concludes that a reasonable ceiling on the cost of renewing elections under the definitions of “in whole” and “in part” would be $20,000, and will be covered by the $41 million total cost estimate.

18. Benefits. Enhanced geo-targeting will improve the quality of WEA to the public and to emergency managers. Without more granular geo-targeting, the use of WEA can result in over-alerting, which leads to “alert fatigue” and confusion for consumers. Consumers that are outside of an area of concern, but receive alerts anyway, begin to ignore alerts or even choose to opt out of receiving future WEA Alert Messages on their mobile devices. Over-alerting can cause confusion and a burden on emergency resources by people who are not certain about how to respond to alerts. In the case of a wildfire, for example, alerting a wide area that is not in direct danger can result in clogged evacuation routes and many calls to emergency officials for additional information. Faced with the real cost of over-alerting, many emergency managers have declined to use WEA. Enhanced geo-targeting directly addresses the over-alerting problem and benefits both consumers and emergency managers.

19. The Order concludes that a one percent reduction in relevant fatalities, injuries, and costs for emergency services is a modest quantification of the benefits of more targeted WEA alerts. The benefit of a one percent reduction in relevant fatalities ($134 million), injuries (at least $2 million) and costs for emergency services ($48 million) yields a total benefit of $184 million. This is well in excess of the anticipated costs. Even if benefits were half of this projection, yielding only one half of one percent reduction in relevant fatalities, injuries and emergency response costs, that would still yield a benefit of $92 million, still significantly above the costs. No commenter has objected to the previous analysis claiming that the benefits of enhanced geo-targeting are sufficient to cover the $41 million costs imposed by this Second Report and Order.

20. In addition, alert preservation will allow subscribers to review details in WEA messages such as shelter locations, improving their ability to seek safety. Additional disclosure requirements will allow consumers to choose a provider and a phone that will bring them WEA alerts that they might otherwise miss.

III. Procedural Matters

A. Accessible Formats

21. To request materials in accessible formats for people with disabilities (Braille, large print, electronic files, audio format), send an email to fcc504@fcc.gov or call the Consumer & Governmental Affairs Bureau at 202-418-0530 (voice), 202-418-0432 (TTY).

B. Final Regulatory Flexibility Act Analysis

22. Pursuant to the Regulatory Flexibility Act of 1980, as amended (RFA), see 5 U.S.C. 603, an Initial Regulatory Flexibility Analysis (IRFA) was included in the FNPRM in PS Docket No. 15-91. The Commission sought written comment on the proposals in this docket, including comment on the IRFA. This Final Regulatory Flexibility Analysis conforms to the RFA.

C. Paperwork Reduction Act Analysis

23. This Report and Order contains new or modified information collection requirements subject to the Paperwork Reduction Act of 1995 (PRA), Public Law 104-13 (44 U.S.C. 3501-3520). The requirements will be submitted to the Office of Management and Budget (OMB) for review under section 3507(d) of the PRA. OMB, the general public, and other Federal agencies will be invited to comment on the new or modified information collection requirements contained in this proceeding. In addition, we note that pursuant to the Small Business Paperwork Relief Act of 2002, Public Law 107-198, see 44 U.S.C. 3506(c)(4), we previously sought specific comment on how the Commission might further reduce the information collection burden for small business concerns with fewer than 25 employees.

24. In this document, we have assessed the effects of new consumer disclosure and election renewal requirements, and find that these rules will impose reasonable implementation costs on small businesses with fewer than 25 employees.

D. Congressional Review Act

25. The Commission will send a copy of this Order in a report to be sent to Congress and the Government Accountability Office pursuant to the Congressional Review Act, see U.S.C. 801(a)(1)(A).

IV. Ordering Clauses

26. Accordingly, it is ordered, pursuant to sections 1, 2, 4(i), 4(o), 301, 303(r), 303(v), 307, 309, 335, 403, 624(g), 706, and 715 of the Communications Act of 1934, as amended, 47 U.S.C. 151, 152, 154(i), 154(o), 301, 301(r), 303(v), 307, 309, 335, 403, 544(g), 606, and 615, as well as by sections 602(a),(b),(c), (f), 603, 604 and 606 of the WARN Act, 47 U.S.C. 1202(a),(b),(c), (f), 1203, 1204 and 1206, that the Second WEA Report and Order and Second Order on Reconsideration in PS Docket Nos. 15-91 and 15-94 is hereby adopted.

27. It is further ordered that the Commission's rules and requirements are hereby amended as set forth in Appendix A of the Second Report and Order.

28. It is further ordered that the rules adopted herein will become effective as described herein. Those rules and requirements which contain new or modified information collection requirements that require approval by the Office of Management and Budget (OMB) under the Paperwork Reduction Act will become effective 120 days after publication in the Federal Register of a document announcing such approval, except for the amendment to 47 CFR 10.240, which will become effective on November 30, 2019 or as specified by publication in the Federal Register of a document announcing OMB approval and the relevant effective date, whichever is later.

29. It is further ordered, pursuant to sections 1, 2, 4(i), 4(o), 301, 303(r), 303(v), 307, 309, 335, 403, 624(g), and 706 of the Communications Act of 1934, as amended, 47 U.S.C. 151, 152, 154(i), 154(o), 301, 301(r), 303(v), 307, 309, 335, 403, 544(g), and 606, as well as by sections 602(a),(b),(c), (f), 603, 604 and 606 of the WARN Act, 47 U.S.C. 1202(a),(b),(c), (f), 1203, 1204 and 1206, that the CTIA Petition is granted to the extent specified herein and in the First Order on Reconsideration.

30. It is further ordered that, as set forth in this Second Order on Reconsideration, the effective date of the requirement imposed by 47 CFR 10.480 published at 81 FR 75710 is delayed until May 1, 2019, the same effective date as other rules adopted by the WEA R&O that were made effective 30 months from the publication of the rules adopted in the WEA R&O in the Federal Register.

31. It is further ordered that the Commission's Consumer and Governmental Affairs Bureau, Reference Information Center, shall send a copy of the Second WEA Report and Order and Second Order on Reconsideration, including the Final and Supplemental Final Regulatory Flexibility Analyses, to the Chief Counsel for Advocacy of the Small Business Administration.

32. It is further ordered that the Commission shall send a copy of the Second WEA Report and Order and Second Order on Reconsideration to Congress and the Government Accountability Office pursuant to the Congressional Review Act, see 5 U.S.C. 801(a)(1)(A).

List of Subjects in 47 CFR Part 10

Communications common carriers, Emergency alerting.

Federal Communications Commission.
Marlene H. Dortch,
Secretary, Office of the Secretary.

Final Rules

For the reasons discussed in the preamble, the Federal Communications Commission amends 47 CFR part 10 to read as follows:

PART 10—WIRELESS EMERGENCY ALERTS

1. The authority citation for part 10 continues to read as follows:

Authority: 47 U.S.C. 151, 154(i) and (o), 201, 303(r), 403, and 606; sections 602(a), (b), (c), (f), 603, 604 and 606 of Pub. L. 109-347, 120 Stat. 1884.

2. Amend § 10.10 by adding paragraphs (k) and (l) to read as follows:

§ 10.10 Definitions.

* * * * *

(k) CMS Provider participation “in whole.” CMS Providers that have agreed to transmit WEA Alert Messages in a manner consistent with the technical standards, protocols, procedures, and other technical requirements implemented by the Commission in the entirety of their geographic service area, and when all mobile devices that the CMS Providers offer at the point of sale are WEA-capable.

(l) CMS Provider participation “in part.” CMS Providers that have agreed to transmit WEA Alert Messages in a manner consistent with the technical standards, protocols, procedures, and other technical requirements implemented by the Commission in some, but not in all of their geographic service areas, or CMS Providers that offer mobile devices at the point of sale that are not WEA-capable.

3. Amend § 10.210 by revising paragraph (a) introductory text to read as follows:

§ 10.210 WEA participation election procedures.

(a) A CMS provider that elects to transmit WEA Alert Messages, in part or in whole as defined by § 10.10(k) and (l), shall electronically file with the Commission a letter attesting that the Provider:

* * * * *

4. Amend § 10.240 by revising paragraph (c) to read as follows:

§ 10.240 Notification to new subscribers of non-participation in WEA.

* * * * *

(c) CMS Providers electing to transmit alerts “in part” shall use the following notification:

NOTICE REGARDING TRANSMISSION OF WIRELESS EMERGENCY ALERTS (Commercial Mobile Alert Service)

[[CMS provider]] has chosen to offer wireless emergency alerts, including enhanced geo-targeting, within portions of its service area, as defined by the terms and conditions of its service agreement, on wireless emergency alert capable devices. There is no additional charge for these wireless emergency alerts.

Wireless emergency alerts, including enhanced geo-targeting, may not be available on all devices or in the entire service area, or if a subscriber is outside of the [[CMS provider]] service area. For details on the availability of this service and wireless emergency alert capable devices, including the availability and benefits of enhanced geo-targeting, please ask a sales representative, or go to [[CMS provider's URL]].

Notice required by FCC Rule 47 CFR 10.240 (Commercial Mobile Alert Service)

* * * * *

5. Amend § 10.450 by revising paragraph (a) and adding paragraph (c) to read as follows:

§ 10.450 Geo-targeting.

* * * * *

(a) This section establishes minimum requirements for the geographic targeting of Alert Messages. A Participating CMS Provider will determine which of its network facilities, elements, and locations will be used to geographically target Alert Messages. A Participating CMS Provider must deliver any Alert Message that is specified by a circle or polygon to an area that matches the specified circle or polygon. A Participating CMS Provider is considered to have matched the target area when they deliver an Alert Message to 100 percent of the target area with no more than 0.1 of a mile overshoot. If some or all of a Participating CMS Provider's network infrastructure is technically incapable of matching the specified target area, then that Participating CMS Provider must deliver the Alert Message to an area that best approximates the specified target area on and only on those aspects of its network infrastructure that are incapable of matching the target area. A Participating CMS Provider's network infrastructure may be considered technically incapable of matching the target area in limited circumstances, including when the target area is outside of the Participating CMS Provider's network coverage area, when mobile devices have location services disabled, and when legacy networks or devices cannot be updated to support this functionality.

* * * * *

(c) In matching the target area, Participating CMS Providers may not limit the availability of 360 characters for the Alert Message text.

6. Amend § 10.500 by revising the introductory text and adding paragraph (h) to read as follows:

§ 10.500 General requirements.

WEA mobile device functionality is dependent on the capabilities of a Participating CMS Provider's delivery technologies. Mobile devices are required to perform the following functions:

* * * * *

(h) Preservation of Alert Messages in a consumer-accessible format and location for at least 24 hours or until deleted by the subscriber.

[FR Doc. 2018-03990 Filed 2-27-18; 8:45 am]

BILLING CODE 6712-01-P